Proclamation 8193 of October 19, 2007

National Forest Products Week, 2007

By the President of the United States of America

A Proclamation

During National Forest Products Week, we celebrate the rich blessings of our Nation's forests, and we recognize the important resources they provide to our communities and our economy.

Our Nation's forests supply vital products and create important employment opportunities. Trees provide wood to make homes, furniture, musical instruments, paper for books and newspapers, and packaging materials. These and other products are created by the construction and manufacturing industries and provide economic security for many of our citizens.

All Americans have an obligation to protect the Earth and a responsibility to be good stewards of our land, and my Administration has made forest health a high priority. Under the Healthy Forest Initiative, we are helping to protect the American people, their communities, and the environment from potentially devastating wildfires. Together we can conserve our woodlands and help leave a lasting legacy for future generations.

Recognizing the importance of our forests in ensuring our Nation's well-being, the Congress, by Public Law 86-753 (36 U.S.C. 123), as amended, has designated the week beginning on the third Sunday in October of each year as “National Forest Products Week” and has authorized and requested the President to issue a proclamation in observance of this week.

NOW, THEREFORE, I, GEORGE W. BUSH, President of the United States of America, do hereby proclaim October 21 through October 27, 2007, as National Forest Products Week. I call upon all Americans to observe this week with appropriate ceremonies and activities.

IN WITNESS WHEREOF, I have hereunto set my hand this nineteenth day of October, in the year of our Lord two thousand seven, and of the Independence of the United States of America the two hundred and thirty-second.

[FR Doc. 07-5298

Filed 10-23-07; 8:50 am]

Billing code 3195-01-P